DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) National Advisory Council (NAC) will meet August 6, 2014, 1:00 p.m.-4:00 p.m.

A portion of the meeting is open to the public and will include a discussion of the Center's current administrative, legislative, and program developments. Public comments are welcome. To attend, or request special accommodations for persons with disabilities, please register at the SAMHSA Committees' Web site, http://nac.samhsa.gov/Registration/meetingsRegistration.aspx or contact the Council's Designated Federal Officer (DFO), Mr. Matthew J. Aumen (see contact information below).

The remainder of the meeting will include the review, discussion, and evaluation of grant applications reviewed by the Initial Review Group, and involve an examination of confidential financial and business information as well as personal information concerning the applicants. Therefore, this section of the meeting will be closed to the public as determined by the SAMHSA Administrator, in accordance with Title 5 U.S.C. § 552b(c)(4) and (6) and (c)(9)(B) and 5 U.S.C. App. 2, Section 10(d).

Individuals interested in making public comments or obtaining the meeting number and passcode are encouraged to notify the DFO, on or before July 30, 2014. Substantive program information, a summary of the meeting, and a roster of Council members may be obtained 30 days following the meeting by accessing the SAMHSA Committee Web site at http://nac.samhsa.gov/ or contacting the DFO.

Committee Name: Substance Abuse and Mental Health Services, Administration Center for Substance Abuse Prevention, National Advisory Council.

Date/Time/Type: August 6, 2014 from 1:00 p.m. to 3:00 p.m. E.D.T.: (OPEN). August 6, 2014 from 3:00 p.m. to 4:00 p.m. E.D.T.: (CLOSED).

Place: Web cast (details provided upon registration).

Contact: Matthew J. Aumen, Designated Federal Officer, SAMHSA CSAP NAC, 1 Choke Cherry Road, Rockville, Maryland 20857, Telephone: 240-276-2419, Fax: 240-276-2430 and Email: matthew.aumen@samhsa.hhs.gov.

Cathy J. Friedman,
Public Health Analyst, Substance Abuse and Mental Health, Services Administration.

This notice is being published less than 15 days prior to the meeting due to the urgent need to meet timing limitations imposed by the review and funding cycle.

[FR Doc. 2014-17767 Filed 7-28-14; 8:45 am]

BILLING CODE 4162-20-P